DEPARTMENT OF EDUCATION

[CFDA Nos: 84.044 and 84.066]

Office of Postsecondary Education

Talent Search and Educational Opportunity Centers Programs

Notice inviting applications for new awards for fiscal year (FY) 2002 and Notice of Technical Assistance Workshops.

Purpose of Programs

The Talent Search Program provides grants to enable applicants to conduct projects designed to (1) identify qualified youths with potential for education at the postsecondary level, and encourage such youths to complete secondary school and to undertake a program of postsecondary education; (2) publicize the availability of student financial assistance available to persons who pursue a program of postsecondary education; and (3) encourage persons who have not completed programs of education at the secondary or postsecondary level, but who have the ability to complete such programs, to reenter such programs.

The Educational Opportunity Centers Program provides grants to conduct projects designed (1) to provide information with respect to financial and academic assistance available for individuals desiring to pursue a program of postsecondary education; and (2) to provide assistance to such persons in applying for admission to institutions at which a program of postsecondary education is offered, including preparing necessary applications for use by admissions and financial aid officers.

Eligible Applicants: Institutions of higher education, public and private agencies and organizations, combinations of institutions, agencies, and organizations, and, in exceptional cases, secondary schools if there are no other applicants capable of providing a Talent Search or Educational Opportunity Centers project in the proposed target area.

Applications Available: August 1, 2001.

Deadline for Transmittal of Applications: September 28, 2001—Educational Opportunity Centers Program; October 19, 2001—Talent Search.

Deadline for Intergovernmental Review: November 28, 2001—Educational Opportunity Centers Program; December 19, 2001—Talent Search Program.

Estimated Available Funds: The Administration has requested $125,532,000 for the Talent Search Program and $37,890,000 for the Educational Opportunity Centers Program for FY 2002. The actual level of funding, if any, depends on final congressional action. However, we are inviting applications to allow enough time to complete the grant process before the end of the fiscal year, if Congress appropriates funds for these programs.

Estimated Range of Awards: $190,000-$553,000 for year 1 of a Talent Search project; $190,000-$953,000 for year 1 of an Educational Opportunity Centers project.

Estimated Average Size of Awards: $317,000 for the Talent Search Program; $421,000 for the Educational Opportunity Centers Program.

Estimated Number of Awards: 396 for the Talent Search Program; 90 for the Educational Opportunity Centers Program.

Note: The Department is not bound by any estimates in this notice.

Project Period: Up to 60 months for both the Talent Search and Educational Opportunity Centers Programs.

Page Limit for Talent Search and Educational Opportunity Centers Programs: The application narrative (Part III of the application) is where you, the applicant, address the selection criteria that reviewers use to evaluate your application. You must limit Part III to the equivalent of no more than 100 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: (a) The Education Department General Administrative Regulations (EDGAR) in 34 CFR parts 74, 75, 77, 79, 82, 85, 86, 97, 98, and 99; and (b) The regulations for the Talent Search program in 34 CFR part 643 and the regulations for the Educational Opportunity Centers Program in 34 CFR part 644.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA No. 84.044 (Talent Search) or CFDA No. 84.066 (Educational Opportunity Centers).

Technical Assistance Workshops: We will conduct 10 technical assistance workshops for these programs. At these workshops, Department of Education staff will assist prospective applicants in developing proposals and will provide budget information regarding these programs. The dates and sites for the technical assistance workshops, which will be held in August, will be posted on the TRIO Web site in June. The TRIO Web site is: http://www.ed.gov/offices/OPE/HEP/trio

Assistance to Individuals With Disabilities at the Technical Assistance Workshops

The technical assistance workshops sites are accessible to individuals with disabilities. If you will need an auxiliary aid or service to participate in the workshop (e.g., interpreting service, assistive listening device, or materials in an alternative format), notify one of the contact persons listed under For Further Information Contact at least two weeks before the scheduled workshop date.

For Further Information Contact: Talent Search Program: Clinton Black, Federal TRIO Programs, U.S. Department of Education, 1990 K Street, NW, Suite 7000, Washington, DC 20006-8510. Telephone: (202) 502-7600 or via Internet: TRIO@ed.gov; Clinton.Black@ed.gov.

Educational Opportunity Centers Program: Margaret A. Wingfield, Federal TRIO Programs, U.S. Department of Education, 1990 K Street, NW, Suite 7000, Washington, DC 20006-8510. Telephone: (202) 502-7600 or via Internet: TRIO@ed.gov; Margaret.Wingfield@ed.gov.

If you use a telecommunications device for the deaf (TDD), you may call the Federal Information Relay Service (FIRS) at 1-800-877-8339.

Individuals with disabilities may obtain this document in an alternative format (e.g., Braille, large print, audiotape, or computer diskette) on request to the program contact persons listed under For Further Information Contact.

Individuals with disabilities may obtain a copy of the application package in an alternative format by contacting ED Pubs. However, the Department is not able to reproduce in an alternative format the standard forms included in the application package.

Electronic Access to This Document

You may view this document, as well as all other Department of Education documents published in the Federal Register, in text or Adobe Portable Document Format (PDF) on the Internet at the following site: www.ed.gov//legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1070a-11 and 20 U.S.C. 1070a-12 for the Talent Search Program; and 20 U.S.C. 1070a-16 for the Educational Opportunity Centers Program.

Dated: June 6, 2001.
Maureen A. McLaughlin,
Deputy Assistant Secretary for Policy, Planning, and Innovation, Office of Postsecondary Education.

[FR Doc. 01-14603 Filed 6-8-01; 8:45 am]

BILLING CODE 4000-01-P